DEPARTMENT OF COMMERCE

National Oceanic and Atmospheric Administration

50 CFR Part 648

[I.D. 052201A]

New England Fishery Management Council; Public Meeting

AGENCY: National Marine Fisheries Service (NMFS), National Oceanic and Atmospheric Administration (NOAA), Commerce.

ACTION: Public meeting.

SUMMARY: The New England Fishery Management Council (Council) will hold a 2-day Council meeting, on June 13 and June 14, 2001, to consider actions affecting New England fisheries in the exclusive economic zone.

DATES: The meeting will be held on Wednesday and Thursday, June 13 and 14, at 9 a.m. and 8:30 a.m., respectively.

ADDRESSES: The meetings will be held at the Providence Biltmore Hotel, 11 Dorrance Street, Kennedy Plaza, Providence, RI 02903; telephone (401) 421-0700. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Wednesday, June 13, 2001

After introductions, the Council meeting will begin with a review and, if appropriate, approval of Council administrative and procedural policies. The Groundfish Committee will follow with its report on the development of Amendment 13 to the Northeast Multispecies Fishery Management Plan (FMP). This will include consideration of a Groundfish Committee recommendation to clarify maximum sustainable yield control rule options and the Capacity’s Committee’s recommendations concerning whether to address latent fishing effort in Amendment 13. During the afternoon session, the Council will review and consider approval of the draft management alternatives and Draft Environmental Impact Statement for the FMP for the Northeast Region skate complex. Lastly, there will be a presentation on bioeconomic modeling and its application to fisheries management, using the American lobster fishery as a case study.

Thursday, June 14, 2001

During the Thursday session of the meeting, the Council will receive reports on recent activities from the Council Chairman, Executive Director, the NMFS Regional Administrator, Northeast Fisheries Science Center and Mid-Atlantic Fishery Management Council liaisons, NOAA General Counsel and representatives of the U.S. Coast Guard, NMFS Enforcement and the Atlantic States Marine Fisheries Commission. These reports will be followed by a NMFS briefing on the Essential Fish Habitat consultation process. A period for public comments will then be held. The Herring Committee will bring forward its annual specification recommendations for the 2002 fishing year. These will include optimum yield from the fishery, total allowable level of foreign fishing and joint venture processing, as well as management area total allowable catch quotas. Prior to making a decision on these specifications, the Council staff will present the annual Stock Assessment and Fishery Evaluation Report for herring. During the afternoon period, the Council’s Scallop Committee will ask for consideration of a control date for vessels that target sea scallops while not on a scallop day-at-sea. A control date may be necessary because the Council is considering whether to limit the access of vessels holding general category permits as part of Amendment 10 to the Atlantic Sea Scallop FMP. The control date could apply to any vessel with or without a general category permit and/or to vessels that have a limited access scallop permit and that fish for sea scallops while not on a day-at-sea. The Council meeting will adjourn after addressing any other outstanding business.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

The Council will consider public comments at a minimum of two Council meetings before making recommendations to the NMFS Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: May 24, 2001.
Richard W. Surdi,
Acting Director, Office of Sustainable Fisheries, National Marine Fisheries Service

[FR Doc. 01-13681 Filed 5-30-01; 8:45 am]

BILLING CODE 3510-22-S